NATIONAL SCIENCE FOUNDATION

Notice of Permits Issued Under the Antarctic Conservation Act of 1978

AGENCY: National Science Foundation.

ACTION: Notice of permit modification issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 2230.

SUPPLEMENTARY INFORMATION: On February 8, 2005, the National Science Foundation published a notice in the Federal Register of a permit modification request received. The permit modification was issued on March 28, 2005 to: Robert L. Pitman—Permit No. 2004-009M#1

Nadene G. Kennedy,
Permit Officer.

[FR Doc. 05-6709 Filed 4-4-05; 8:45 am]

BILLING CODE 7555-01-M